DEPARTMENT OF COMMERCE

National Oceanic and Atmospheric Administration

[RTID 0648-XE176]

Endangered and Threatened Species; Take of Anadromous Fish

AGENCY: National Marine Fisheries Service (NMFS), National Oceanic and Atmospheric Administration (NOAA), Commerce.

ACTION: Notice of receipt; two permit applications and two permit modification requests to enhance the propagation and survival of endangered and threatened species.

SUMMARY: Notice is hereby given that NMFS has received two direct take permit applications and two permit modification requests pursuant to section 10(a)(1)(A) of the Endangered Species Act (ESA) for research and enhancement purposes. The proposed activities are intended to enhance the survival of species listed under the ESA and to help guide management and conservation efforts.

DATES: Comments or requests for a public hearing on the applications must be received at the appropriate address or fax number (see ADDRESSES) no later than 5 p.m. Pacific standard time on September 11, 2024.

ADDRESSES: Written comments should be submitted to: NMFS West Coast Region, 650 Capitol Mall, Room 5-100, Sacramento, CA 95814. Comments may also be submitted via email to Amanda.Cranford@noaa.gov. Please include the permit number in any correspondence or comments provided.

The applications may be viewed online at: https://apps.nmfs.noaa.gov/preview/preview_open_for_comment.cfm.

FOR FURTHER INFORMATION CONTACT: Amanda Cranford, Sacramento, California (Phone: 916-930-3706, Email: Amanda.Cranford@noaa.gov).

SUPPLEMENTARY INFORMATION:

Species Covered in This Notice

Chinook salmon (Oncorhynchus tshawytscha) Evolutionarily Significant Units (ESU):

Endangered Sacramento River winter-run, and

Threatened Central Valley spring-run

Steelhead (O. mykiss) Distinct Population Segments (DPS):

Threatened California Central Valley (CCV)

North American green sturgeon (Acipenser medirostris):

Threatened Southern DPS (SDPS)

Background

Permit 27626

The California Department of Fish and Wildlife (CDFW) proposes to reintroduce and bolster native fish populations in Big Chico Creek by translocating fishes from nearby waters. Several species have been extirpated from Big Chico Creek due to rotenone treatment that occurred between Higgin's Hole and Iron Canyon in 1986. Target native fishes include: Sacramento Sucker (Catostomidae occidentalis), Sacramento Pikeminnow (Ptychocheilus grandis), Hardhead (Mylopharodon conocephalus), Western Brook Lamprey (Lampetra richardsoni), and Riffle Sculpin (Cottus gulosus). Several of these fishes are ranked as of moderate concern in the California Species of Special Concern List within the California Natural Diversity Database. Reintroducing these species back into their native range increases resilience and provides a unique opportunity to restore previously documented native fish assemblage.

Fish will be captured using beach seines as much as is feasible, with the exception of Brook Lamprey, which will be captured using backpack electrofishing. Where beach seines are not effective or possible, CDFW will use minnow traps to capture fish. Fish will be inspected for parasites and any health concerns, and the anterior portion of their dorsal fins will be clipped for genetic analysis. Depending on size of fish collected, a Floy tag may be applied for the purposes of tracking movement within Big Chico Creek and assessing the success of translocations. Fish will be transported in oxygenated water to the receiving sites in Big Chico Creek. Receiving sites will be determined each year based on access, safety of crew, and locations of previous years' translocations.

Permit 28124

The California Department of Water Resources (DWR) will deploy a Juvenile Salmonid Collection System (JSCS) in the McCloud Arm of Shasta Reservoir as part of a feasibility study to assess the reintroduction of Sacramento River winter-run Chinook salmon above Shasta Dam. The primary purpose of JSCS deployment is to evaluate methods of juvenile salmon collection in head-of-reservoir conditions to support efforts to reintroduce the endangered population of Sacramento River winter-run Chinook salmon to cold-water habitat above Shasta and Keswick dams.

The JSCS is a channel-spanning fish trap designed for head-of-reservoir conditions, and is comprised of a debris boom, guidance nets, fish trap and platform (live box, fykes, and decks), temperature curtain, and anchoring system. The JSCS is a passive system that does not rely on pumps or power, and instead leverages fish behavior and water velocities to capture juvenile salmon during outmigration before the fish enter the main body of the reservoir. The JSCS is intended to capture the experimental population of Sacramento River winter-run Chinook salmon from Livingston Stone National Fish Hatchery (Livingston Stone NFH) reared and released at Ah Di Na on the McCloud River. DWR may sample a subsection of trapped salmon to assess their growth rates and condition. DWR may recover juvenile salmon carcasses during warmwater predator gut content analysis and will provide salvaged mortalities to CDFW and the Southwest Fisheries Science Center (SWFSC). DWR will conduct mark-recapture studies with hatchery-raised juvenile Sacramento River winter-run or Central Valley spring-run Chinook salmon to inform evaluation of trap efficiency and capture probability. DWR will provide all salmon captured at the JSCS to CDFW and the Winnemem Wintu Tribe for relocation and release.

Permit 16477-4M

This permit modification request is intended to support a suite of emergency actions under development by NMFS, CDFW, and the U.S. Fish and Wildlife Service (USFWS) to enhance the survival of Central Valley spring-run Chinook salmon. In 2023, the three remaining independent Central Valley spring-run Chinook salmon populations in Mill, Deer, and Butte Creeks experienced a cohort collapse. The primary purpose of Livingston Stone NFH is to conserve endangered Sacramento River winter-run Chinook salmon. However, beginning in 2024, additional actions will be taken to conserve threatened Central Valley spring-run Chinook salmon that are incidentally captured during adult winter-run Chinook salmon broodstock collection activities.

USFWS proposes to trap, genetically identify, hold, and spawn a limited number of adult spring-run Chinook salmon captured in the Keswick Dam fish trap. Eggs produced from these fish will be incubated at Livingston Stone NFH until the eyed stage, at which time they will be moved off-station by CDFW to remote-site incubators (RSIs) installed on Butte, Clear, Deer, and/or Mill creeks. In addition to the artificial propagation of spring-run Chinook salmon at Livingston Stone NFH in the capacity described above, natural-origin spring-run Chinook salmon trapped at Keswick Dam in excess of the agreed upon spawning target, or otherwise not selected for propagation, be translocated to Butte, Clear, Deer, and/or Mill creeks, instead of returning them to the Sacramento River at Caldwell Park. This action will promote spawning in higher-quality tributary spawning and rearing habitats that are spatially separated from adult fall-run Chinook salmon spawners.

Permit 18181-6M

The permit modification requested by CDFW will allow for the operation of RSIs in various Central Valley rivers. The use of RSIs is expected to enhance the survival of ESA-listed Chinook salmon by: (1) spreading the risk of adverse impacts to early life stages caused by drought conditions; (2) assessing the efficacy of RSI systems for potential use in any future reintroduction program efforts; and/or (3) studying the growth, survival, and outmigration timing of juvenile salmon in their historical habitat to inform long-term reintroduction planning. RSIs may be deployed and operated in the McCloud River using Sacramento River winter-run Chinook salmon eggs from Livingston Stone NFH. RSIs in Butte, Clear, Deer, and/or Mill creeks would utilize Central Valley spring-run Chinook salmon eggs from adults incidentally captured at the Keswick Dam fish trap and spawned at Livingston Stone NFH.

CDFW also proposes to carry out monitoring and evaluation activities to assess the performance of reintroduction efforts in the McCloud River. Snorkel surveys may be conducted to monitor outmigration timing, juvenile distribution, and habitat use. Juveniles will be recaptured using rotary screw traps (or an alternative juvenile capture method, if determined necessary), which may include efficiency trials to expand fish counts to estimates of growth, survival and productivity of juveniles in the McCloud River. Habitat-associations will be assessed through snorkel surveys and/or backpack electrofishing at various locations in the McCloud River from Ah Di Na to Lake Shasta.

Authority

Scientific research and enhancement permits are issued in accordance with section 10(a)(1)(A) of the ESA (16 U.S.C. 1531 et seq.) and regulations governing listed fish and wildlife permits (50 CFR 222-226). NMFS issues permits based on finding that such permits: (1) are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

This notice is provided pursuant to section 10(c) of the ESA. NMFS will evaluate the applications, associated documents, and comments submitted to determine whether the applications meet the requirements of section 10(a) of the ESA and Federal regulations. The final permit decisions will not be made until after the end of the 30-day comment period. NMFS will publish notice of its final action in the Federal Register.

Dated: August 6, 2024.
Angela Somma,
Chief, Endangered Species Division, Office of Protected Resources, National Marine Fisheries Service.

[FR Doc. 2024-17799 Filed 8-9-24; 8:45 am]

BILLING CODE 3510-22-P